DEPARTMENT OF COMMERCE

Foreign-Trade Zones Board

[Docket 10-2004]

Proposed Foreign-Trade Zone—Southaven, MS; Application and Public Hearing

An application has been submitted to the Foreign-Trade Zones (FTZ) Board (the Board) by the Northern Mississippi FTZ, Inc., a Mississippi non-profit corporation, to establish a general-purpose foreign-trade zone in Southaven (DeSoto County), Mississippi. An application is currently pending with the Bureau of Customs and Border Protection to extend the Memphis, Tennessee, Customs port of entry boundary to include DeSoto County, Mississippi (see 69 FR 2092, 1/14/04). The FTZ application was submitted pursuant to the provisions of the FTZ Act, as amended (19 U.S.C. 81a-81u), and the regulations of the Board (15 CFR Part 400). It was formally filed on March 16, 2004. The applicant is authorized to make the proposal under Section 59-3-35 of the Mississippi Annotated Code.

The proposed zone consists of a 219-acre site located at the DeSoto Trade Center, located between Interstate 55 and U.S. Highway 51 south of Church Road, Southaven. The site is adjacent to the recently completed DeSoto County Civic Center and is owned by Mayfield/New York, Ltd., Hillwood Fund DTC 1, L.P., Mississippi Purchase Corporation and Hal Crenshaw.

The application indicates a need for zone services in the Southaven, Mississippi, area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on April 27, 2004, at 11 a.m, at the DeSoto County Civic Center, Board Conference Room, 4560 Venture Drive, Southaven, Mississippi 38671.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099—14th Street NW, Washington, DC 20005; or

2. Submissions via the U.S. Postal Service: Foreign-Trade Zones Board, U.S. Department of Commerce, FCB—Suite 4100W, 1401 Constitution Avenue NW, Washington, DC 20230.

The closing period for their receipt is May 24, 2004. Rebuttal comments in response to material submitted during the foregoing period may be submitted during the subsequent 15-day period (to June 7, 2004).

A copy of the application and accompanying exhibits will be available for public inspection at the Office of the Foreign-Trade Zones Board's Executive Secretary at the first address listed above, and at the City Clerk's Office, 8700 Northwest Drive, Southaven, Mississippi 38671.

Dated: March 16, 2004.
Dennis Puccinelli,
Executive Secretary.

[FR Doc. 04-6613 Filed 3-23-04; 8:45 am]

BILLING CODE 3510-DS-P